LEGAL SERVICES CORPORATION

1611 Negotiated Rulemaking Working Group Meeting Notice

Time and Date: The Legal Services Corporation's 1611 Negotiated Rulemaking Working Group will meet on January 7-8, 2002. The meeting will begin at 9 a.m. on January 7, 2002. It is anticipated that the meeting will end by 5 p.m. on January 8, 2002.

Location: The meeting will be held in the First Floor Conference Room at the offices of Marasco Newton Group, Inc., 2425 Wilson Blvd., Arlington, VA 22201.

Status of Meeting: This meeting is open to public observation.

Contact Person for Information: Mattie C. Condray, Senior Assistant General Counsel, Legal Services Corporation, 750 First St., NE., 11th Floor, Washington, DC 20001; (202) 336-8817.

Special Needs: Upon request, meeting notices will be made available in alternate formats to accommodate visual and hearing impairments. Individuals who have a disability and need an accommodation to attend the meeting may notify Naima Washington at 202-336-8841; washingn@lsc.gov.

Dated: December 27, 2001.
Victor M. Fortuno,
Vice President for Legal Affairs, General Counsel & Corporate Secretary.

[FR Doc. 01-32250 Filed 12-31-01; 8:45 am]

BILLING CODE 7050-01-P